DEPARTMENT OF DEFENSE

GENERAL SERVICES ADMINISTRATION

NATIONAL AERONAUTICS AND SPACE ADMINISTRATION

[OMB Control No. 9000-0071; Docket No. 2019-0003; Sequence No. 1]

Submission for OMB Review; Price Redetermination

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal concerning price redetermination.

DATES: Submit comments on or before September 3, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0071, Price Redetermination.

Instructions: All items submitted must cite Information Collection 9000-0071, Price Redetermination, in all correspondence related to this collection. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Mr. Curtis E. Glover, Sr., Procurement Analyst, Office of Government-wide Acquisition Policy, GSA, 202-501-1448, or email curtis.glover@gsa.gov.

SUPPLEMENTARY INFORMATION:

A. OMB Number, Title, and Any Associated Form(s)

9000-0071, Price Redetermination.

B. Needs and Uses

FAR 16.205, Fixed-price contracts with prospective price redetermination, provides for firm fixed prices for an initial period of the contract and prospective redetermination of the price, at stated times during performance, during subsequent periods of performance. Prospective price redetermination is used in negotiated contracts when it is possible to establish a firm fixed price for an initial period, but not for subsequent periods of contract performance. FAR clause 52.216-5, Price Redetermination-Prospective, is included in these solicitations and contracts and requires a contractor to submit to the Government—

• Within an agreed upon timeframe, (1) proposed prices for the upcoming contract period, (2) a statement of costs incurred for the most recent period of performance, and (3) any supporting or relevant documentation; and,

• During periods where firm prices have not been established, a quarterly statement that includes a breakdown of total contract prices, costs, and profit incurred and all invoices accepted for delivered items or services for which final prices have not been established.

FAR 16.206, Fixed price contracts with retroactive price redetermination, provides for a fixed ceiling price, and retroactive price redetermination within the ceiling after completion of the contract. Retroactive price redetermination is used in research and development contracts valued at $150,000 or less when a firm fixed price cannot be negotiated and the contract amount and short performance period make the use of any other fixed-price contract type impracticable. FAR clause 52.216-6, Price Redetermination—Retroactive, is included in these solicitations and contracts and requires contractors to submit to the Government—

• Within an agreed upon timeframe after completion of the contract, (1) the proposed prices, (2) all costs incurred in performing the contract, and (3) any supporting or relevant documentation; and,

• Until final price redetermination has been completed, a quarterly statement that includes a breakdown of total contract prices, costs, and interim profit incurred and all invoices accepted for delivered items.

Contracting officers use the information submitted by respondents to accurately determine the price adjustments to be made under the contract or order in accordance with the clause.

C. Annual Reporting Burden

Respondents: 33.

Total Annual Responses: 232.

Total Burden Hours: 1,856.

Affected Public: Business or other for-profit entities.

D. Public Comment

A 60-day notice was published in the Federal Register at 84 FR 18038 on April 29, 2019. No comments were received.

Obtaining Copies: Requesters may obtain a copy of the information collection documents from the General Services Administration, Regulatory Secretariat Division (MVCB), 1800 F Street NW, Washington, DC 20405, telephone 202-501-4755. Please cite OMB Control No. 9000-0071, Price Redetermination, in all correspondence.

Dated: July 29, 2019.
Janet Fry,
Director, Federal Acquisition Policy Division, Office of Governmentwide Acquisition Policy, Office of Acquisition Policy, Office of Governmentwide Policy.

[FR Doc. 2019-16501 Filed 8-1-19; 8:45 am]

BILLING CODE 6820-EP-P